DEPARTMENT OF HEALTH AND HUMAN SERVICES

Centers for Disease Control and Prevention

Interagency Committee on Smoking and Health Meeting: Correction

ACTION: Notice; Correction.

Name: Interagency Committee on Smoking and Health.

Date and Time: 9 a.m.-4 p.m., September 30, 2002.

Place: Room 615F, Hubert H. Humphrey Building, 200 Independence Avenue, SW., 6th Floor, Washington, DC 20201.

Correction

In the Federal Register of September 5, 2002, Volume 67, Number 172, Notice, Page 56844-56845 “Matter To Be Discuss” should read: The agenda will focus on the roles of the publics and private sector in tobacco use reduction.

Contact Person for More Information: Substantive program information as well as summaries of the meeting and roster of committee members may be obtained from the Internet http://www.cdc.gov/tobacco in November 2002, or from Ms. Monica L. Swann, Committee Management Specialist, Interagency Committee on Smoking and Health, Office on Smoking and Health, NCCDPHP, CDC, 200 Independence Avenue, SW., Room 317B, Washington, DC, 20201, telephone (202) 205-8500.

The Director, Management Analysis and Services Office, has been delegated the authority to sign Federal Register notices pertaining to announcements of meetings and other committee management activities, for both the Centers for Disease Control and Prevention and the Agency for Toxic Substances and Disease Registry.

Dated: September 10, 2002.
John Burckhardt,
Acting Director, Management Analysis and Services Office, Centers for Disease Control and Prevention.

[FR Doc. 02-23457 Filed 9-13-02; 8:45 am]

BILLING CODE 4163-18-P